DEPARTMENT OF THE INTERIOR

National Park Service

[NPS-WASO-NAGPRA-NPS0032264; PPWOCRADN0-PCU00RP14.R50000]

Notice of Intent To Repatriate Cultural Items: American Museum of Natural History, New York, NY

AGENCY: National Park Service, Interior.

ACTION: Notice.

SUMMARY: The American Museum of Natural History (AMNH), in consultation with the Tohono O'odham Nation, has determined that the cultural items listed in this notice meet the definition of either unassociated funerary objects or objects of cultural patrimony. Lineal descendants or representatives of any Indian Tribe or Native Hawaiian organization not identified in this notice that wish to claim these cultural items should submit a written request to the American Museum of Natural History. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the American Museum of Natural History at the address in this notice by August 18, 2021.

FOR FURTHER INFORMATION CONTACT: Nell Murphy, American Museum of Natural History, Central Park West at 79th Street, New York, NY 10024, telephone (212) 769-5837, email nmurphy@amnh.org.

SUPPLEMENTARY INFORMATION: Notice is here given in accordance with the Native American Graves Protection and Repatriation Act (NAGPRA), 25 U.S.C. 3005, of the intent to repatriate cultural items under the control of the American Museum of Natural History, New York, NY, that meet the definition of either unassociated funerary objects or objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1911, the AMNH purchased one medicine basket from Rudolf Rasmessen, a Tucson-based curio dealer and accessioned it into the collection that same year. The empty basket is described in Museum records as a Papago bear grass medicine basket. It is constructed of yucca leaves and plaited diagonally. It has an oblong shape consisting of rectangular sides with rounded corners and a tight-fitting lid that is characteristic of Papago medicine baskets in general.

In 1911, AMNH accessioned eight medicine baskets and one medicine man's plume that Ms. Mary Lois Kissell collected between 1909-1910 as part of the Huntington Southwest Expedition. This Museum-sponsored initiative sought to better understand the peoples living in the southwestern United States. The baskets and medicine plume are all catalogued as “Papago.”

Kissell collected three baskets and one medicine man's plume in San Xavier, Pima County, AZ. The first basket from the San Xavier community has the customary oblong shape and lid. Museum records indicate that the original owner emptied the basket of all medicine items at the time of purchase. Kissell collected the second basket in San Xavier, though she indicated it was made by an individual in Santa Rosa. In her 1916 publication on Pima and Papago basketry, Kissell noted that the basket contains owl feathers which protect from diseases caused by the owl. Today, in addition to owl feathers. this basket holds prayer sticks, cloth, an Apache effigy figure, and a fringed bag once used to contain it. Basket contents appear to have shifted over time and some of these items likely belong with other baskets described in this Notice. Kissell purchased the third basket from a medicine man in San Xavier. The basket, which was woven by the medicine man's wife, contains two turtle shells (one of which was likely fashioned into a rattle), which according to Museum records, offered protection from diseases caused by the turtle. In her 1916 publication on Pima and Papago basketry, Kissell wrote that the turtle shell has served three generations of medicine men. Kissell purchased a medicine man's plume while in San Xavier and according to Museum records, she placed it inside an empty medicine basket that she collected from a different medicine man in Santa Rosa. The plume consists of two feathers, presumably eagle, with string at the base.

Kissell acquired two baskets from “an old medicine woman” in Little Tucson, Pima County, AZ, one of which she describes as a rain basket and the other of which contained medicine she describes as protecting an infant from being appropriated by evil spirits. Both baskets have the customary oblong shape and lid and one is now empty. The other basket contains a white cloth and prayer or rain stick. It is not possible to clearly link either basket with the descriptions provided by Kissell.

Kissell collected two medicine baskets from Santa Rosa, Pima County, AZ. The first is a medicine man's basket that was made by the wife of the owner. Although empty today (except for a bundle of twine), the archival record indicates that it once contained an Apache figure inside “to keep off Apache Indians.” It is likely that the Apache figure is now stored in a Medicine basket from San Xavier described above. The second basket is a medicine man's basket that was collected by Kissell during her visit to Santa Rosa. An archival note indicates that it was plaited by the man's wife and purchased empty. Kissell added a San Xavier medicine man's plume to the basket after it was collected. The blue string inside may have originally been tied around the exterior.

Kissell purchased one medicine basket with its contents from a medicine man in Covered Wells. It was plaited by the man's mother and is described in Museum records as a “medicine man's basket for bringing rain.” The basket currently holds pieces of cloth, four feathers, and a stick. In her 1916 publication, Kissell describes other items that are not found in the basket.

In 1911, Carl Lumholtz, a Norwegian naturalist, sold three medicine baskets, three arrow shaft smoothers and one arrow shaft straightener to the AMNH. Between 1909 and 1910, Lumholtz was commissioned by private individuals to explore northwestern Sonora, Mexico, and southwestern Arizona. In 1911, he sold the items he collected during these expeditions to the AMNH. The first basket is fashioned of twined and plaited agave leaves in an oblong shape. The lid has a painted green stripe which outlines its top and then divides it into two equal halves into which are painted two identical squares created by alternating red and green lines. A red painted stripe outlines the lid's flap. The second basket is catalogued as “small basket for keeping painting material” but it is now empty. It has the same oblong shape as the first basket but lacks adornment. The third basket, while also exhibiting the typical oblong shape, is much longer in length than the other two baskets. Lumholtz described this basket in his field notebook with the following entry: “Large medicine basket in which eagle plumes and other sacred paraphernalia of the lady Kei[illeg.] are kept. Made by an old woman, Papago, at Noolic rancheria, Comobabi Range. June 1910.” Lumholtz also wrote that “the cover is considered as the mat, on which [the basket] stands when in use at the solemn occasions.”

According to Museum records, Lumholtz, collected the three arrow shaft smoothers and the one arrow shaft straightener “from the ancient cemetery near Cav-va-xiac Village, where [they were] deposited on a grave.” Information provided during consultation with the Tohono O'odham Nation indicates that “Cav-va-xiax Village” is presently known as Cobabi (Kaav Vavhia or Badger Well in O'odham) which is situated east of Santa Rosa, Arizona. According to O'odham custom, visitors to this historic site are required to leave an offering and given the nature of the burial items, it is likely that the arrow smoothers and straightener were associated with the burial site of an O'odham hunter or warrior.

Based on the Museum's records and consultation with representatives of the Tohono O'odham Nation of Arizona, the 12 baskets and one medicine man's plume collected in Arizona and catalogued as Papago are culturally affiliated with the Tohono O'odham Nation of Arizona. Evidence from museum records, scholarly publications and information provided during consultation indicated that a basket became a “medicine basket” once the contents, such as artifacts or herbs, were placed inside. Only a medicine person would have been allowed to handle these kinds of baskets and no individual had the authority to sell them. The medicine and medicine basket belonged to families of medicine people and in some cases, would have been passed down to other members with a gift for healing. Even today, when a medicine person dies, some of their items are buried with them while others are left behind.

Based on the Museum's records and consultation with representatives of the Tohono O'odham Nation of Arizona, the four items removed from an ancient cemetery near Cav-va-xiac Village are reasonably believed to have been placed with or near individual human remains at the time of death or later as part of the death rite or ceremony and are believed to have been removed from a specific burial site of a Tohono O'odham individual.

Determinations Made by the American Museum of Natural History

Officials of the American Museum of Natural History have determined that:

• Pursuant to 25 U.S.C. 3001(3)(B), the three arrow shaft smoothers and one arrow shaft straightener described above are reasonably believed to have been placed with or near individual human remains at the time of death or later as part of the death rite or ceremony and are believed, by a preponderance of the evidence, to have been removed from a specific burial site of a Native American individual.

• Pursuant to 25 U.S.C. 3001(3)(D), the 12 medicine baskets and one medicine man's plume described above have ongoing historical, traditional, or cultural importance central to the Native American group or culture itself, rather than property owned by an individual.

• Pursuant to 25 U.S.C. 3001(2), there is a relationship of shared group identity that can be reasonably traced between the four unassociated funerary objects and 13 objects of cultural patrimony and the Tohono O'odham Nation of Arizona.

Additional Requestors and Disposition

Lineal descendants or representatives of any Indian Tribe or Native Hawaiian organization not identified in this notice that wish to claim these cultural items should submit a written request with information in support of the claim to Nell Murphy, American Museum of Natural History, Central Park West at 79th Street, New York, NY 10024, telephone (212) 769-5837, email nmurphy@amnh.org, by August 18, 2021. After that date, if no additional claimants have come forward, transfer of control of the four unassociated funerary objects and 13 objects of cultural patrimony to the Tohono O'odham Nation of Arizona may proceed.

The American Museum of Natural History is responsible for notifying the Tohono O'odham Nation of Arizona that this notice has been published.

Dated: July 7, 2021.
Melanie O'Brien,
Manager, National NAGPRA Program.

[FR Doc. 2021-15253 Filed 7-16-21; 8:45 am]

BILLING CODE 4312-52-P